DEPARTMENT OF LABOR

Employment and Training Administration

[TA-W-55,318]

Allegheny Ludlum, Research/Technical Center, Natrona Heights, PA; Dismissal of Application for Reconsideration

Pursuant to 29 CFR 90.18(C) an application for administrative reconsideration was filed with the Director of the Division of Trade Adjustment Assistance for workers at Allegheny Ludlum, Research/Technical Center, Natrona Heights, Pennsylvania. The application contained no new substantial information which would bear importantly on the Department's determination. Therefore, dismissal of the application was issued.

TA-W-55,318; Allegheny Ludlum Research/Technical Center, Natrona Heights, Pennsylvania (December 8, 2004)

Signed at Washington, DC this 13th day of December, 2004.
Timothy Sullivan,
Director, Division of Trade Adjustment Assistance.

[FR Doc. E4-3739 Filed 12-17-04; 8:45 am]

BILLING CODE 4510-30-P